POSTAL SERVICE

Board of Governors; Sunshine Act Meeting

DATES AND TIMES: Wednesday, November 12, 2014, at 9:30 a.m.; Thursday, November 13, 2014, at 9:30 a.m.; and Friday, November 14, at 8:30 a.m. and 10:00 a.m.

PLACE: Washington, DC, at U.S. Postal Service Headquarters, 475 L'Enfant Plaza, SW., in the Benjamin Franklin Room.

STATUS: Wednesday, November 12, at 9:30 a.m.—Closed, Thursday, November 13, at 9:30 a.m.—Closed; Friday, November 14, at 8:30 a.m.—Open; and at 10:00 a.m.—Closed.

MATTERS TO BE CONSIDERED:

Wednesday, November 12, at 9:30 a.m. (Closed)

1. Financial Matters.

2. Personnel Matters and Compensation Issues.

Thursday, November 13, at 9:30 a.m. (Closed)

1. Strategic Issues.

2. Financial Matters.

3. Pricing.

4. Personnel Matters and Compensation Issues.

5. Governors' Executive Session—Discussion of prior agenda items and Board Governance.

Friday, November 14, at 8:30 a.m. (Open)

1. Remarks of the Chairman of the Board.

2. Remarks of the Postmaster General and CEO.

3. Approval of Minutes of Previous Meetings.

4. Committee Reports.

5. FY2014 10K and Financial Statements.

6. FY2015 IFP and Financing Resolution.

7. FY2016 Appropriations Request.

8. Quarterly Service Performance Report.

9. Approval of Annual Report and Comprehensive Statement.

10. Tentative Agenda for the January 7, 2015, via teleconference.

11. Election of Chairman and Vice Chairman of the Board of Governors.

Friday, November 14, at 10:00 a.m. (Closed—if needed)

1. Continuation of Thursday's closed session agenda.

CONTACT PERSON FOR FURTHER INFORMATION: Julie S. Moore, Secretary of the Board, U.S. Postal Service, 475 L'Enfant Plaza SW., Washington, DC 20260-1000. Telephone: (202) 268-4800.

Julie S. Moore,
Secretary.

[FR Doc. 2014-26109 Filed 10-30-14; 11:15 am]

BILLING CODE 7710-12-P